DEPARTMENT OF HEALTH AND HUMAN SERVICES

Centers for Medicare & Medicaid Services

[Document Identifier: CMS-10142, CMS-10691, CMS-10463, CMS-10493, and CMS-10507]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by January 20, 2026.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier:__ /OMB Control Number:__, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collections

1. Type of Information Collection Request: Revision of a currently approved collection; Title of Information Collection: Bid Pricing Tool (BPT) for Medicare Advantage (MA) Plans and Prescription Drug Plans (PDP); Use: Medicare Advantage organizations (MAO) and Prescription Drug Plans (PDP) are required to submit an actuarial pricing “bid” for each plan offered to Medicare beneficiaries for approval by CMS. The MAOs and PDPs use the Bid Pricing Tool (BPT) software to develop their actuarial pricing bid. The competitive bidding process defined by the “The Medicare Prescription Drug, Improvement, and Modernization Act” (MMA) applies to both the MA and Part D programs. It is an annual process that encompasses the release of the MA rate book in April, the bid's that plans submit to CMS in June, and the release of the Part D and RPPO benchmarks, which typically occurs in August. Form Number: CMS-10142 (OMB control number: 0938-0944); Frequency: Annually; Affected Public: Private Sector, Business or other for profits, and Not for profits institutions; Number of Respondents: 460; Total Annual Responses: 11,700; Total Annual Hours: 406,000. (For questions regarding this collection contact Rachel Shevland at 410-786-3026 or Rachel.shevland@cms.hhs.gov.)

2. Type of Information Collection Request: Extension of a currently approved collection; Title of Information Collection: Data Request and Attestation for PDP Sponsors; Use: Section 50354 of the BBA requires that the Secretary establish a process for PDP sponsors to submit a request for standardized extracts of claims data for their enrollees. In addition, Section 50354 of the BBA provides for a number of purposes and limitation for the use of the claims data and also permits the Secretary to establish other limitations necessary to protect the identity of individuals entitled to or enrolled in Medicare, and to protect the security of personal health information.

This information collection request allows a PDP sponsor to submit a request to CMS for claims data for its enrollees and to attest that it will adhere to the permitted uses and limitations on the use of the Medicare claims data that are listed in 42 CFR 423.153(g)(3) and After requesting claims data for its enrollees and attesting to the permitted uses and limitations of Medicare claims data, PDP sponsors are required to complete some basic on-boarding activities before gaining access to Medicare claims data using the Part A and B Claims Data to Part D Sponsors (AB2D) API. Form Number: CMS-10691 (OMB control number: 0938-1371); Frequency: Annually; Affected Public: Private Sector, Business or other for profits, and Not for profits institutions; Number of Respondents: 200; Total Annual Responses: 200; Total Annual Hours: 36.83. (For questions regarding this collection contact Kari Gaare at 410-786-8612 or Kari.gaare@cms.hhs.gov.)

3. Type of Information Collection Request: Reinstatement with change of a previously approved collection; Title of Information Collection: Cooperative Agreement to Support Navigators in Federally-facilitated Exchanges and State Partnership Exchanges; Use: Section 1311(i) of the ACA requires Exchanges to establish a Navigator program under which it awards grants to eligible individuals and entities, as described in Section 1311(i)(2) of the ACA and 45 CFR 155.210(a) and (c), to carry out certain Navigator duties in states with an FFE. Entities or individuals that receive a cooperative agreement award must be capable of carrying out, at a minimum, all Navigator duties required by the ACA and HHS regulations. The primary regulations that establish requirements for Navigator grant awardees are 45 CFR 155.210 and 155.215. Under the terms and conditions of the Navigator program cooperative agreements, awardees must provide progress reports on a weekly, monthly, and quarterly basis, and a final report at the end of the five-year period of performance. Form Number: CMS-10463 (OMB control number: 0938-1215); Frequency: Annually, Monthly, Quarterly, Weekly; Affected Public: Private Sector; Businesses or other for-profits, Not-for-profit institutions; Number of Respondents: 44; Total Annual Responses: 120,236; Total Annual Hours: 457,857. (For questions regarding this collection contact Gian Johnson at 301-492-4323.)

4. Type of Information Collection Request: Extension of a currently approved collection; Title of Information Collection: Data Collection to Support Eligibility Determinations for Small Businesses in the Small Business Health Options Program; Use: On March 23, 2010, the President signed into law H.R. 3590, the Patient Protection and Affordable Care Act, Public Law 111-148, as amended by the Health Care and Education Reconciliation Act of 2010, Public Law 111-152. The Patient Protection and Affordable Care Act (PPACA) expands access to health insurance coverage through improvements to the Medicaid and Children's Health Insurance (CHIP) programs, the establishment of Affordable Insurance Exchanges (Exchanges), and the coordination between Medicaid, CHIP, and Exchanges. Small business employers may participate in and provide health coverage through the Small Business Health Options Program (SHOP), so long as the small business employer obtains a positive eligibility determination from SHOP. Employers will work with SHOP-registered agents/brokers or Issuers offering Qualified Health Plans (QHPs) and Qualified Dental Plans (SADPs), to enroll in SHOP coverage and to select coverage options to offer their employees. SHOP Exchanges became operational on October 1, 2013.

HHS has developed a single, streamlined form that employers use to obtain a SHOP eligibility determination, which is included as an appendix to this Information Collection Request. 45 CFR 155.731 provides more detail about this “single employer application,” which is used to determine employer eligibility. Since publication of the last package, no updates have been made in regulation concerning what information should be collected on the single employer application to determine employer eligibility under 45 CFR 155.731. When an employer completes the SHOP Eligibility Determination Form, the form and its results are retained by SHOP for future use, if needed (e.g., reconciliation with issuer records, SHOP employer appeals, etc.). Form Number: CMS-10439 (OMB control number: 0938-1193); Frequency: Annually; Affected Public: Private Sector—Business or other for-profits, Not-for-profit institutions; Number of Respondents: 2,100; Number of Responses: 2,100; Total Annual Hours: 336. (For questions regarding this collection, contact Mary Guy at 410-786-2772).

5. Type of Information Collection Request: Reinstatement with change of a previously approved information collection; Title of Information Collection: State-based Exchange Annual Reporting Tool (SMART); Use: The ACA § 1313(a)(1) and its implementing regulations require State Exchanges to keep an accurate accounting of all activities, receipts, and expenditures, and to submit a report annually to CMS concerning such accounting. Instructions governing specific facets of the activities covered by the report are contained both in the ACA and 45 CFR 155.1200, 155.1210. CMS uses the SMART as the reporting tool to ensure compliance with regulatory requirements.

CMS uses the information collected from the SMART to determine if a state is maintaining a compliant, operational Exchange. It also provides a mechanism to collect innovative approaches to meeting challenges encountered by states during the preceding year, as well as to provide information to CMS regarding potential changes in priorities and approaches for the upcoming year. If CMS determines a state to be non-compliant through the review of required documentation, it will issue a formal letter asking the state to develop and submit a Corrective Action Plan (CAP). CMS may also provide technical assistance to help State Exchanges address potential areas of non-compliance, as needed. Form Number: CMS-10507 (OMB control number: 0938-1244); Frequency: Annually; Affected Public: State, Local or Tribal Government; Number of Respondents: 23; Number of Responses: 23; Total Annual Hours: 4,792. (For questions regarding this collection, contact Tiffany Y. Animashaun at Tiffany.Animashaun@cms.hhs.gov.)

William N. Parham, III,
Director, Division of Information Collections and Regulatory Impacts, Office of Strategic Operations and Regulatory Affairs.

[FR Doc. 2025-20367 Filed 11-19-25; 8:45 am]

BILLING CODE 4120-01-P